DEPARTMENT OF AGRICULTURE

Forest Service

Collaborative Forest Landscape Restoration Advisory Committee

AGENCY: Forest Service, USDA.

ACTION: Notice of meeting.

SUMMARY: The Collaborative Forest Landscape Restoration Advisory Committee (Committee) will hold a virtual meeting. The committee is authorized under Title IV of Omnibus Public Land Management Act of 2009. The purpose of the committee is to improve collaborative relationships and to provide advice and recommendations to the Secretary of Agriculture (Secretary) on the selection of collaborative forest landscape restoration proposals as provided in Section 8629 of the Agriculture Improvement Act of 2018. Committee information can be found at the following website: https://www.fs.fed.us/restoration/CFLRP/advisory-panel.shtml.

DATES: The meeting will be held on June 22-26, 2020, with exact times on the website listed under Summary.

All meetings are subject to cancellation. For status of meeting prior to attendance, please contact the person listed under For Further Information Contact.

ADDRESSES: The meeting will be held with virtual attendance only. For virtual meeting information, please see website listed under Summary.

Written comments may be submitted as described under Supplementary Information. All comments, including names and addresses when provided, are placed in the record and are available for public inspection and copying. The public may inspect comments received at the USDA Forest Service Washngton Office Yates Buidling. Please call ahead to facilitate entry into the building.

FOR FURTHER INFORMATION CONTACT: Jessica Robertson, Designated Federal Officer, by phone at 202-302-1193 or via email at jessica.robertson@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Evaluate 2020 Collaborative Forest Landscape Restoration Program proposals, and

2. Provide recommendations to the Secretary of Agriculture on proposal selection for funding.

The meeting is open to the public. The agenda will include time for people to make oral statements of three minutes or less. Individuals wishing to make an oral statement should request in writing by June 15, 2020, to be scheduled on the agenda. Anyone who would like to bring related matters to the attention of the committee may file written statements with the committee staff before or after the meeting. Written comments and requests for time to make oral comments must be sent to Jessica Robertson, Integrated Restoration Coordinator, 201 14th Street Southwest, Washington, Distict of Columbia 20240; or by email to jessica.robertson@usda.gov.

Meeting Accommodations: If you are a person requiring reasonable accommodation, please make requests in advance for sign language interpreting, assistive listening devices, or other reasonable accommodation. For access to the facility or proceedings, please contact the person listed in the section titled For Further Information Contact. All reasonable accommodation requests are managed on a case-by-case basis.

Dated: May 18, 2020.
Cikena Reid,
USDA Committee Management Officer.

[FR Doc. 2020-10995 Filed 5-20-20; 8:45 am]

BILLING CODE 3411-15-P